DEPARTMENT OF ENERGY

National Energy Technology Laboratory; Notice of Availability of a Financial Assistance Solicitation

AGENCY: National Energy Technology Laboratory, Department of Energy (DOE).

ACTION: Notice of restricted eligibility of a financial assistance solicitation.

SUMMARY: Notice is hereby given of the intent to issue Financial Assistance Solicitation No. DE-PS26-00NT40767 entitled “Recovery and Utilization of Coal Mine Methane: Pilot Scale Demonstration Phase. Pursuant to 10 CFR 600.6(b), DOE has determined that issuance of this financial assistance solicitation on a restricted eligibility basis is necessary and appropriate. Accordingly, the eligibility of recipients for DOE financial assistance awards under this solicitation is limited to the following firms:

Jim Walter Resources, Inc., PO Box 133, Brookwood, AL 35444, Contact: Randall Mills. FuelCell Energy, Inc., 3 Great Pasture Road, PO Box 1305, Danbury, CT 06813-1305, Contact: Michelle Reichert.

West Virginia University Research Corporation On Behalf of West Virginia University/Appalachian Pacific, PO Box 6845, 886 Chestnut Ridge Road, Morgantown, WV 26506-6845, Contact: William W. Reeves.

Noumenon Corporation, 95 Ringold Lane, Morgantown, WV 26508, Contact: Linda Rizer. Northwest Fuel Development, Inc., 4064 Orchard Drive, Lake Oswego OR 97035, Contact: Peet Soot.

Industry partners will be required to cost share a minimum of 50 percent of the project activities.

FOR FURTHER INFORMATION CONTACT: Crystal A. Sharp, U.S. Department of Energy, National Energy Technology Laboratory, PO Box 880,3610 Collins Ferry Road, Morgantown, WV 26507-0880, E-mail Address: crystal.sharp@netl.doe.gov, Telephone Number: (304) 285-4442

SUPPLEMENTARY INFORMATION: In 1995, a competitive solicitation was issued requesting feasibility studies to determine existing, evolving, and novel technologies which may be applicable for capturing and utilizing coal mine methane emissions generated from active and inactive coal mining operations in the U.S. Ten offerors were selected for the Phase I feasibility effort. Based on the results reported from the Phase I effort, DOE down selected from the initial 10 awardees to the five awardees identified above to continue with Phase II, engineering design preparation. Phase II required each awardee to provide at a minimum 20 percent cost share. These five DOE-industry sponsored projects (which are partnerships with industry: coal, gas, electric, and engine companies) are the only efforts which are ongoing under this specific aspect of DOE's Climate Challenge Program which began in 1993 as a result of the Energy Policy Act of 1992. Since the initial issuance of the fully competitive solicitation in 1995 focused on recovering coal mine methane emissions, the remaining five DOE-industry sponsored partnerships (following prior down selects) are in a singularly unique position, from both a technical and government cost effectiveness basis, to continue with the follow-on detailed engineering designs of those technologies solicited under this procurement action which can be reliably demonstrated in the field for timely verification of the cost-effective recovery and utilization of coal mine methane emissions.

Randolph L. Kesling,
Director, Acquisition and Assistance Division.

[FR Doc. 00-5946 Filed 3-9-00; 8:45 am]

BILLING CODE 6450-01-P